DEPARTMENT OF COMMERCE

National Oceanic and Atmospheric Administration

RIN 0648-XF427

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its American Samoa Archipelago Fishery Ecosystem Plan (FEP) Advisory Panel (AP) to discuss and make recommendations on fishery management issues in the Western Pacific Region.

DATES: The American Samoa Archipelago FEP AP will meet on Wednesday, May 31, 2017, between 4:30 p.m. and 6:30 p.m. All times listed are local island times.

For specific times and agendas, see SUPPLEMENTARY INFORMATION.

ADDRESSES: The American Samoa Archipelago FEP AP will meet at the Pacific Petroleum Conference Room, Utulei, American Samoa, 96799.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the American Samoa Archipelago FEP AP Meeting

Wednesday, May 31, 2017, 4:30 p.m.-6:30 p.m.

1. Welcome and Introductions

2. Report on Previous Council Action Items

3. Council Issues

A. American Samoa Longline Vessel Prohibited Area

B. Options for Fishery Ecosystem Management Unit Species for Ecosystem Component Designation

C. Review of Options for Non-fishing Impacts to Essential Fish Habitat

4. American Samoa FEP Community Activities

5. American Samoa FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Although other non-emergency issues not on the agenda may come before this group for discussion, those issues may not be the subject of formal action during this meeting. Actions will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 10, 2017.
Tracey L. Thompson,
Acting Deputy Director, Office of Sustainable Fisheries, National Marine Fisheries Service.

[FR Doc. 2017-09751 Filed 5-12-17; 8:45 am]

BILLING CODE 3510-22-P